DEPARTMENT OF HEALTH AND HUMAN SERVICES

Agency for Healthcare Research and Quality

Medicare Prescription Drug, Improvement, and Modernization Act of 2003 Section 1013: Request for Nominations—The Effective Health Care Stakeholder Group

AGENCY: Agency for Healthcare Research and Quality (AHRQ), HHS.

ACTION: Notice of invitation to submit nominations for the Effective Health Care Stakeholder Group.

SUMMARY: The DHHS Agency for Healthcare Research and Quality (AHRQ) invites nominations from interested organizations and knowledgeable individuals for a Stakeholder Group to support the work of the Effective Health Care Program, funded under Section 1013 of the Medicare Prescription Drug, Improvement and Modernization Act (MMA) of 2003. The goals of this program are to develop evidence on the effectiveness and comparative effectiveness of different treatments and health care interventions of importance to the Medicare, Medicaid, and State Child Health Insurance. To achieve these goals, AHRQ is supporting projects to review, synthesize, generate and translate published and unpublished scientific evidence, as well as identify important issues for which existing scientific evidence is insufficient to inform decisions about health care. This evidence will be made readily available to all heath care decision-makers. The Stakeholder Group is critical to the success of this project, providing input to the program in collaboration with the Effective Health Care Scientific Resource Center (currently based at the Oregon Evidence-based Practice Center).

The role of the Stakeholder Group will be to:

• Provide input on critical research information gaps for practice and policy and on identifying and developing the key research questions to address these gaps.

• Provide input on implementation issues for Effective Heath Care program reports and findings.

• Define information needs and identify types of projects that will be most useful.

• Provide feedback from report users.

• Provide guidance on the program as a whole for quality improvement.

• Provide guidance on how the program can have more of an impact with users.

Members will serve as volunteers for a two-year period from October 2007 through September 2009. Stakeholder Group members will attend 3-4 meetings per year as part of this process. Meetings will be held in Rockville, MD and Portland, Oregon. Meetings will be 1-2 days in length. The Scientific Resource Center (SRC) will make the travel arrangements. The first meeting will be held on October 26, 2007, in Rockville, MD.

Members are expected to actively participate in meetings and to engage in related activities by phone and e-mail between meetings. Between-meeting work may include assisting with agenda planning and session preparation for Stakeholder meetings, consulting with SRC or AHRQ staff on constituency issues, and serving as a resource to the Effective Health Care Program. It is anticipated that the Stakeholder Group member time commitment between meetings will not exceed 10 hours.

The Stakeholder Group will be composed of up to 15 members. The group will represent several broad constituencies of stakeholders and decision-makers at the policy, system, and clinical levels, which will include:

• Third party healthcare payers (including, but not limited to public State or Federal Medicare or Medicaid programs, and private insurance health plans and Health maintenance Organizations).

• Employers and health-related business groups.

• Pharmacy and therapeutic committees.

• Healthcare providers.

• Patient/consumer organizations.

• Consumers of Federal and State beneficiary programs.

• Healthcare industry professional organizations.

• Academic researchers (including, but not limited to those with expertise in evidence-based methods and effectiveness and translational research).

Self-nominations are encouraged. Materials to be submitted are a cover letter and curriculum vitae or similar supportive documentation. The cover letter will provide information on how the nominee's experience, skills and roles fit with the composition and goals of the Stakeholder Group as described above. Specific information on nominee experience in the constituency groups described above is required. Nominees chosen for the Stakeholder Group will be required to declare and submit conflict of interest documentation. This will not necessarily preclude service. Nominees may indicate their willingness to be considered in subsequent calls for nominations if not selected for this Stakeholder Group in their supporting documentation.

All nominations received by submission deadline will be reviewed by a committee composed of representatives from AHRQ and the SRC. Nominees who best represent the broad constituencies described as the goal for composition of the Stakeholder Group will be selected and notified by September 28, 2007. In addition, AHRQ is interested in fostering diversity and including representatives of, or individuals with expertise regarding, populations experiencing health care disparities and in this case individuals with expertise regarding chronic conditions and health care needs of the Medicare, Medicaid, and State Children's Health Insurance Program (SCHIP) populations.

DATES: Nominations for the Effective Health Care Stakeholder Group must be received by August 31, 2007.

ADDRESSES: Nominations for consideration may be e-mailed to EffectiveHealthCare@ahrq.gov.

FOR FURTHER INFORMATION CONTACT: Effective Health Care Program at (301) 427-1502 or EffectiveHealthCare@ahrq.gov.

More information about the Effective Health Care Program is available at http://www.EffectiveHealthCare.ahrq.gov.

SUPPLEMENTARY INFORMATION: Nominees not selected for the Stakeholder Group are invited to participate in the Effective Healthcare Program by making suggestions for research and providing comment on key questions and draft reviews. In addition, a listserv has been established and those interested may join to be notified when items of interest become available for review or public comment. Opportunities for involvement in the Effective Health Care Program are described at http://www.EffectiveHealthCare.ahrq.gov.

Dated: July 3, 2007.
Carolyn M. Clancy,
Director.

[FR Doc. 07-3360 Filed 7-10-07; 8:45 am]

BILLING CODE 4160-90-M